DEPARTMENT OF COMMERCE

International Trade Administration

[A-580-843]

Notice of Final Determination of Sales at Not Less Than Fair Value: Expandable Polystyrene Resins from the Republic of Korea

AGENCY: Import Administration, International Trade Administration, Department of Commerce.

EFFECTIVE DATE: November 16, 2000.

ACTION: Notice of final determination of sales at not less than fair value.

FOR FURTHER INFORMATION CONTACT: Valerie Ellis or David Layton, at (202) 482-2336 or (202) 482-0371, respectively; Import Administration, International Trade Administration, U.S. Department of Commerce, Washington, D.C. 20230.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (the Department) regulations are to 19 CFR Part 351 (1999).

Final Determination

We determine that expandable polystyrene resin (EPS) from the Republic of Korea (Korea) is not being sold, nor is likely to be sold, in the United States at less than fair value (LTFV), as provided in section 735 of the Act. The estimated margins of sales at not LTFV are shown in the “Termination of Liquidation” section of this notice.

Case History

The preliminary determination in this investigation was issued on June 20, 2000. See Notice of Preliminary Determination of Sales at Less Than Fair Value and Postponement of Final Determination: Certain Expandable Polystyrene Resins From the Republic of South Korea, 65 FR 39351 (June 26, 2000). The investigation covers two manufacturers/exporters: Shinho Petrochemical Co., Ltd. (Shinho) and Cheil Industries Incorporated (Cheil). Both of these companies are located in Seoul, Korea.

The Department verified the responses of Cheil Industries Incorporated in Seoul, South Korea from August 21, 2000 to August 25, 2000; Shinho Petrochemical Co., Ltd. in Seoul, South Korea from August 28, 2000 to September 1, 2000; Samsung America Incorporated (SAI), Cheil's affiliated importer, at Ridgefield Park, New Jersey from September 27, 2000 to September 28, 2000; and Cheil's Los Angeles branch and the division of Samsung America, Incorporated located in the same building, in La Mirada City, California, on September 29, 2000.

Scope of Investigation

For purposes of this investigation, the products covered includes EPS in primary forms; namely, raw material or resin manufactured in the form of polystyrene beads, whether of regular (shape) type or modified (block) type, regardless of specification, having a weighted-average molecular weight of between 160,000 and 260,000, containing from 3 to 7 percent blowing agents, and having bead sizes ranging from 0.4 mm to 3 mm. Specifically excluded from the scope of this investigation are off-grade, off-specification expandable polystyrene resins. The covered merchandise is found in the Harmonized Tariff Schedule of the United States (HTSUS) subheading 3903.11.00.00. Although this HTSUS subheading is provided for convenience and customs purposes, the written description of the merchandise is dispositive.

Analysis of Comments Received

All issues raised in the case and rebuttal briefs by parties to this investigation, as well as certain other findings by the Department which are listed in an appendix to this notice, are addressed in the “Issues and Decision Memorandum for the Final Determination in the Antidumping Duty Investigation of Expandable Polystyrene Resins from South Korea” (Decision Memorandum), from Holly A. Kuga, Acting Deputy Assistant Secretary, Import Administration, to Troy H. Cribb, Assistant Secretary for Import Administration, dated November 8, 2000, which is hereby adopted by this notice. A list of issues which parties have raised and to which we have responded, all of which are in the Decision Memorandum, is attached to this notice as an appendix. Parties can find a complete discussion of all issues raised in this investigation and the corresponding recommendations in this public memorandum which is on file in the Central Records Unit, Room B-099 of the main Department building and on the Web at: www.ia.ita.doc.gov. The paper copy and electronic version of the Decision Memorandum are identical in content.

Changes Since the Preliminary Determination

Based on our analysis of comments received, we have made changes in the margin calculations for both companies under review. These changes are discussed in the relevant sections of the Decision Memo.

Termination of Suspension of Liquidation

Pursuant to section 735(c)(2) of the Act, we are instructing Customs to terminate suspension of liquidation of all entries of EPS from South Korea that are entered, or withdrawn from warehouse, for consumption on or after June 26, 2000, the date of publication of the preliminary determination. The Customs Service shall refund any cash deposit and release any bond or other security previously posted in connection with this case.

We determine that the following de minimis weighted-average dumping margins exist for October 1, 1998, through September 30, 1999:

Manufacturer/Exporter | Weighted Average Margin (percent)
Cheil Industries Incorporated | 0.82
Shinho Petrochemical Co. | 0.83

ITC Notification

In accordance with section 735(d) of the Act, we have notified the International Trade Commission (ITC) of our determination. As our final determination is negative, this proceeding is terminated and all securities posted will be refunded.

Notification to Interested Parties

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: November 8, 2000.
Joseph A. Spetrini,
Acting Assistant Secretary for Import Administration.

Appendix

Issues Covered in Decision Memorandum

I. General Issues

1. Allegations of Mexican Transshipments

2. Using Monthly Averaging Groups in Place of Annual Averages to Calculate Normal Value

II. Issues Specific to Cheil Industries, Inc. (Cheil)

3. Constructed Export Price Offset

4. Duty Drawback

5. Credit Expense—Home Market Interest Rate

6. Reclassification of Certain Sales from Constructed Export Price to Export Price

7. General & Administrative Expense

8. Inclusion of Import Duties in the Cost of Manufacture

III. Issues Specific to Shinho Petrochemical Co., Ltd (Shinho)

9. Credit Expense

10. Gain on Foreign Currency Translation

[FR Doc. 00-29405 Filed 11-15-00; 8:45 am]

BILLING CODE 3510-DS-P